DEPARTMENT OF ENERGY

Federal Energy Regulatory Commission

Combined Notice of Filings #1

Take notice that the Commission received the following electric corporate filings:

Docket Numbers: EC16-16-000.

Applicants: Entergy Rhode Island State Energy, L.P.

Description: Application of Entergy Rhode Island State Energy, L.P. for Section 203 approval and request for shortened notice period and expedited treatment.

Filed Date: 10/22/15.

Accession Number: 20151022-5294.

Comments Due: 5 p.m. ET 11/12/15.

Take notice that the Commission received the following exempt wholesale generator filings:

Docket Numbers: EG16-13-000.

Applicants: Marshall Wind Energy LLC.

Description: Self-Certification as an Exempt Wholesale Generator of Marshall Wind Energy LLC.

Filed Date: 10/23/15.

Accession Number: 20151023-5157.

Comments Due: 5 p.m. ET 11/13/15.

Take notice that the Commission received the following electric rate filings:

Docket Numbers: ER16-137-000.

Applicants: Enserco Energy LLC.

Description: Tariff Cancellation: Cancellation to be effective 12/23/2015.

Filed Date: 10/23/15.

Accession Number: 20151023-5102.

Comments Due: 5 p.m. ET 11/13/15.

Docket Numbers: ER16-138-000.

Applicants: Southern California Edison Company.

Description: § 205(d) Rate Filing: Letter Agreement Addressing RAS Affecting Silver State Solar Power South LGIA to be effective 10/24/2015.

Filed Date: 10/23/15.

Accession Number: 20151023-5145.

Comments Due: 5 p.m. ET 11/13/15.

Docket Numbers: ER16-139-000.

Applicants: Southwest Power Pool, Inc.

Description: § 205(d) Rate Filing: Revisions to Attachment W to Update Index of Grandfathered Agreements to be effective 1/1/2016.

Filed Date: 10/23/15.

Accession Number: 20151023-5165.

Comments Due: 5 p.m. ET 11/13/15.

Take notice that the Commission received the following electric securities filings:

Docket Numbers: ES15-71-000.

Applicants: PPL Electric Utilities Corporation.

Description: Amendment to September 18, 2015 Application under Section 204 of the Federal Power Act of PPL Electric Utilities Corporation.

Filed Date: 10/22/15.

Accession Number: 20151022-5288.

Comments Due: 5 p.m. ET 11/2/15.

Docket Numbers: ES15-72-000.

Applicants: Interstate Power and Light Company.

Description: Amendment to September 18, 2015 Application under Section 204 of the Federal Power Act of Interstate Power and Light Company.

Filed Date: 10/22/15.

Accession Number: 20151022-5286.

Comments Due: 5 p.m. ET 11/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2015.
Nathaniel J. Davis, Sr.,
Deputy Secretary.

[FR Doc. 2015-27676 Filed 10-29-15; 8:45 am]

BILLING CODE 6717-01-P